DEPARTMENT OF HEALTH AND HUMAN SERVICES

Centers for Disease Control and Prevention

Disease, Disability, and Injury Prevention and Control Special Emphasis Panel (SEP): Human Immunodeficiency Virus (HIV) Prevention Projects for Community-Based Organizations, Funding Opportunity Announcement (FOA), PS10-1003, Initial Review

In accordance with Section 10(a)(2) of the Federal Advisory Committee Act (Pub. L. 92-463), the Centers for Disease Control and Prevention (CDC) announces the aforementioned meeting.

Times and Dates:

8:30 a.m.-5:30 p.m., December 6, 2009 (Closed)

8:30 a.m.-5:30 p.m., December 7, 2009 (Closed)

8:30 a.m.-5:30 p.m., December 8, 2009 (Closed)

8:30 a.m.-5:30 p.m., December 9, 2009 (Closed)

8:30 a.m.-5:30 p.m., December 10, 2009 (Closed)

8:30 a.m.-5:30 p.m., December 11, 2009 (Closed)

8:30 a.m.-5:30 p.m., December 12, 2009 (Closed)

Place: Sheraton Atlanta Hotel, 165 Courtland Street, NE., Atlanta, Georgia, 30303, Telephone (404) 659-6500.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of “HIV Prevention Projects for Community-Based Organizations, FOA PS10-003.”

Contact Person For More Information: Monica Farmer, M.Ed., Public Health Analyst, Strategic Science and Program Unit, Office of the Director, Coordinating Center for Infectious Diseases, CDC, 1600 Clifton Road, NE., Mailstop E-60, Atlanta, GA 30333, Telephone: (404) 498-2277.

The Director, Management Analysis and Services Office, has been delegated the authority to sign Federal Register notices pertaining to announcements of meetings and other committee management activities, for both CDC and the Agency for Toxic Substances and Disease Registry.

Dated: August 5, 2009.
Elaine L. Baker,
Director, Management Analysis and Services Office, Centers for Disease Control and Prevention.

[FR Doc. E9-19638 Filed 8-14-09; 8:45 am]

BILLING CODE 4163-18-P